DEPARTMENT OF COMMERCE

National Oceanic and Atmospheric Administration

50 CFR Part 648

[I.D. 091800K]

Mid-Atlantic Fishery Management Council; Public Hearings

AGENCY: National Marine Fisheries Service (NMFS), National Oceanic and Atmospheric Administration (NOAA), Commerce.

ACTION: Public hearings, request for comments.

SUMMARY: The Mid-Atlantic Fishery Management Council (Council) and the Atlantic States Marine Fisheries Commission (ASMFC) will hold public hearings to allow for input on the public hearing draft of Amendment 13 to the Summer Flounder, Scup, and Black Sea Bass Fishery Management Plan (FMP). This amendment will detail the fishing impacts to summer flounder, scup, and black sea bass essential fish habitat (EFH) to bring the FMP into compliance with the Magnuson-Stevens Fishery Conservation and Management Act (Magnuson-Stevens Act), as amended by the Sustainable Fisheries Act (SFA). This amendment will also provide the information and analyses necessary to implement a state system of conservation equivalency for the recreational fishery of summer flounder to achieve the annual recreational harvest limit.

DATES: Written comments will be accepted until October 30, 2000. The hearings will be held in October. For specific dates and times, see SUPPLEMENTARY INFORMATION.

ADDRESSES: Send comments to Daniel T. Furlong, Executive Director, Mid-Atlantic Fishery Management Council, 300 S. New Street, Dover, DE 19904, or John Dunnigan, Executive Director, Atlantic States Marine Fisheries Commission, 1444 Eye Street, NW, Suite 304, Washington, DC 20005.

The hearings will be held in Massachusetts, Rhode Island, New York, New Jersey, Maryland, and North Carolina. For specific locations, see SUPPLEMENTARY INFORMATION.

FOR FURTHER INFORMATION CONTACT: Daniel T. Furlong, Executive Director, Mid-Atlantic Fishery Management Council, 302-674-2331, ext. 19, or John Dunnigan, Executive Director, Atlantic States Marine Fisheries Commission, 202-289-6400, ext. 304.

SUPPLEMENTARY INFORMATION:

Background

Amendment 13 to the FMP, prepared by the Council in consultation with the ASMFC, is intended to manage the summer flounder fishery pursuant to the Magnuson-Stevens Act. The purpose of this amendment is to bring the disapproved EFH portions of Amendment 12 into compliance with the Magnuson-Stevens Act, as amended by the SFA, and to implement state conservation equivalency for the recreational summer flounder fishery. Although state conservation equivalency has been used for fishing years 1999 and 2000, it has been implemented only as an interim measure. The Council and ASMFC must amend the current FMP to use state conservation equivalency as a standard tool to regulate the summer flounder coastwide recreational harvest limit beginning in 2001. Six possible alternatives to achieving the coastwide recreational harvest limit include:

1. A system that allows the Council and ASMFC to decide on an annual basis whether to (a) allow states to develop state-specific conservation equivalent management measures that result in the same constraint on landings as the coastwide measures, or (b) specify coastwide measures to achieve the coastwide recreational harvest limit (Preferred Alternative).

2. A system in which three subregions of the coast develop region-specific measures to achieve the coastwide recreational harvest limit (Non-preferred Alternative 1).

3. A system where states in each subregion use subregional data to develop state-specific minimum size limits, possession limits, and closed seasons to achieve the coastwide recreational harvest limit (Non-preferred Alternative 2).

4. State-by-state allocation of the coastwide recreational harvest limit (Non-preferred Alternative 3).

5. Coastwide management measures to achieve the coastwide recreational harvest limit (No action, Non-preferred Alternative 4).

6. A system like the one currently in place under the interim rule where each state can choose either a coastwide measure or equivalent measures to achieve the coastwide recreational limit (Non-preferred Alternative 5).

The Council and ASMFC are requesting public input on all of the alternatives. These alternatives are discussed in further detail in the public hearing draft of Amendment 13.

Dates, Times, and Locations of Hearings

1. Tuesday, October 10, 2000, 7-10 p.m.—Sanderling Inn Resort and Conference Center, 1461 Duck Road, Duck, NC; telephone 252-449-6664.

2. Wednesday, October 18, 2000, 7-10 p.m.—Carousel Hotel, 118th Street, Ocean City, MD; telephone 410-524-1000.

3. Thursday, October 19, 2000, 7-10 p.m.—Holiday Inn, Route 37-290 State Highway, Toms River, NJ; telephone 732-244-4000.

4. Thursday, October 26, 2000, 7:30-10:00 p.m.—NYSDEC Division of Marine Resources, 205 Belle Meade Road, E. Setauket, NY; telephone 631-444-0453.

There will be an additional two hearings (one in Massachusetts and one in Rhode Island) at a location and time yet to be determined by ASMFC. When this decision is made, NMFS will issue an additional notification in the Federal Register.

The hearings will be tape recorded, and the tapes will be filed as the official transcript of the hearings.

Special Accommodations

The hearings are physically accessible to people with disabilities. Requests for sign language interpretation or other auxiliary aids should be directed to Joanna Davis at the Council, telephone 302-674-2331, ext. 18, at least 5 days prior to the hearing date.

Dated: September 22, 2000.
Bruce C. Morehead,
Acting Director, Office of Sustainable Fisheries, National Marine Fisheries Service.

[FR Doc. 00-24854 Filed 9-26-00; 8:45 am]

BILLING CODE 3510-22-S